FEDERAL FINANCIAL INSTITUTIONS EXAMINATION COUNCIL

[Docket No. AS10-11]

Appraisal Subcommittee Notice of Meeting

AGENCY: Appraisal Subcommittee of the Federal Financial Institutions Examination Council.

ACTION: Notice of meeting.

Description: In accordance with Section 1104(b) of Title XI of the Financial Institutions Reform, Recovery, and Enforcement Act of 1989, as amended, notice is hereby given that the Appraisal Subcommittee (ASC) will meet in closed session:

Location: FDIC Building, 1776 F Street, NW., Room 4085, Washington, DC 20429.

Date: December 8, 2010.

Time: Immediately following the ASC open session beginning at 11:15 a.m.

Status: Closed.

Matters to be Considered:

November 10, 2010 minutes—Closed Session.

Preliminary discussion of State Compliance Reviews.

Dated: November 26, 2010.
James R. Park,
Executive Director.

[FR Doc. 2010-30214 Filed 11-30-10; 8:45 am]

BILLING CODE P